DEPARTMENT OF DEFENSE

Department of the Air Force

Intent To Grant an Exclusive Patent License

Pursuant to the provisions of part 404 of Title 37, Code of Federal Regulations, which implements Public Law 96-517, as amended, the Department of the Air Force announces its intention to grant R/D Tech Inc., a Canadian corporation, having a place of business at Quebec, Canada, an exclusive license in any right, title and interest the Air Force has in: U.S. Patent Application Serial No. 10/209,298, filed 30 July 2002, entitled “Phased Array Ultrasonic NDT System for Fastener Inspections,” by Michael Moles, Olivier Dupuis, Fabrice Cancre, Pamela Herzog, James T. Miller, and Jamie Hatmaker.

Canadian Patent Application Serial No. 2,396,117, filed 30 July 2002, entitled “Phased Array Ultrasonic NDT System for Fastener Inspections,” by Michael Moles, Olivier Dupuis, Fabrice Cancre, Pamela Herzog, James T. Miller, and Jamie Hatmaker.

Any objection to the grant of the license must be submitted in writing and received within fifteen (15) days from the date of publication of this Notice in order to be considered. Written objection should be sent to: Air Force Materiel Command Law Office, AFMCLO/JAZ, 2240 B Street, Rm. 100, Wright-Patterson AFB, OH 45433-7109. Telephone: (937) 255-2838; Facsimile (937) 255-3733.

Pamela Fitzgerald,
Air Force Federal Register Liaison Officer.

[FR Doc. 04-7364 Filed 3-31-04; 8:45 am]

BILLING CODE 5001-05-P